DEPARTMENT OF TRANSPORTATION

Federal Motor Carrier Safety Administration

[Docket No. FMCSA-2025-0129]

Agency Information Collection Activities; Renewal of an Approved Information Collection: Motor Carrier Identification Report

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests approval to renew an ICR titled, “Motor Carrier Identification Report,” which is used to identify FMCSA regulated entities, help prioritize the agency's activities, aid in assessing the safety outcomes of those activities, and for statistical purposes. This ICR is necessary to ensure regulated entities are registered with the DOT. On June 17, 2025, FMCSA published a 60-day notice in the Federal Register announcing its intention to submit this ICR to OMB for renewal. FMCSA received no comments in response to this notice.

DATES: Comments on this notice must be received on or before December 19, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Mr. Jeffrey Secrist, Office of Registration, Chief, Registration Division, DOT, FMCSA, 1200 New Jersey Avenue SE, Washington, DC 20590-0001; (202) 385-2367; jeff.secrist@dot.gov.

SUPPLEMENTARY INFORMATION:

Title: Motor Carrier Identification Report.

OMB Control Number: 2126-0013.

Type of Request: Renewal of a currently approved information collection.

Respondents: Motor carriers, freight forwarders, intermodal equipment providers (IEPs), brokers, motor carriers with a hazardous materials (HM) safety permit, cargo tank facilities and Mexican motor carriers.

Estimated Number of Respondents: 572,983 [567,351 for IC-1 + 1,922 for IC-2 + 3,709 for IC-3].

Estimated Time per Response: IC-1: 20 minutes for new filings and 7.5 minutes for biennial updates and changes to complete Form MCS-150. IC-2: 26 minutes for new filings and 5 minutes for biennial updates and changes to complete Form MCS-150B. IC-3: 20 minutes for new filings and 7.5 minutes for biennial updates and changes to complete Form MCS-150C.

Expiration Date: October 31, 2025.

Frequency of Response: On occasion and biennially.

Estimated Total Annual Burden: 160,169 hours [158,437 hours for IC-1 + 497 hours for IC-2 + 1,235 hours for IC-3].

Background

Title 49, United States Code (U.S.C.) section 504(b)(2) provides the Secretary of Transportation (Secretary) with authority to require carriers, lessors, associations, or classes of these entities to file annual, periodic, and special reports containing answers to questions asked by the Secretary. The Secretary may also prescribe the form of records required to be prepared or compiled and the time period during which records must be preserved (see 49 U.S.C. 504(b)(1) and (d)). FMCSA will use this data to administer its safety programs using a database of entities that are subject to its regulations. This database necessitates that these entities notify FMCSA of their existence. For example, under 49 Code of Federal Regulations (CFR) 390.19(a), FMCSA requires all motor carriers beginning operations to file Form MCS-150, “Motor Carrier Identification Report,” Form MCS-150B titled, “Combined Motor Carrier Identification Report and HM Permit Applications,” or Form MCS-150C titled, “Intermodal Equipment Provider Identification Report.” This report is filed by all motor carriers conducting interstate operations, intrastate operations transporting HM, or international commerce before beginning operations. It asks the respondent to provide the name of the business entity that owns and controls the motor carrier operation; address and telephone of principal place of business; assigned identification number(s), type of operation, types of cargo usually transported; number of vehicles owned, term leased and trip leased; driver information; and certification statement signed by an individual authorized to sign documents on behalf of the business entity. Existing applicants will use Form MCS-150, MCS-150B, or MCS-150C to update their information in the Motor Carrier Management Information System. Applicants filing for the first time will be required to file online. Form MCS-150, MCS-150B will be used for Mexico-domiciled carriers that seek authority to operate beyond the United States municipalities on the United States-Mexico border and their commercial zones, or MCS-150C will be used by IEPs beginning operations that interchange intermodal equipment with a motor carrier or have contractual responsibility for the maintenance of intermodal equipment. The information collected from the respondents is readily available to the public. This revised ICR captures the burden of continued use of Form MCS-150, MCS-150B for motor carriers updating their registration information and for the registration of Mexico-domiciled carriers, or MCS-150C for IEPs. No public comments were received in response to the 60-day Federal Register notice.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Jonathan Mueller,
Acting Associate Administrator, Office of Research and Registration.

[FR Doc. 2025-20265 Filed 11-18-25; 8:45 am]

BILLING CODE 4910-EX-P